DEPARTMENT OF LABOR

Occupational Safety and Health Administration

29 CFR Parts 1910, 1915, and 1926

[Docket No. OSHA-H022K-2006-0062]

RIN 1218-AC20

Hazard Communication Standard; Approval of Information Collection Requirements

AGENCY: Occupational Safety and Health Administration (OSHA), Labor.

ACTION: Final rule; notice of the Office of Management and Budget's (OMB) approval of information collection requirements.

SUMMARY: The Occupational Safety and Health Administration (OSHA) is announcing that the Office of Management and Budget (OMB) approved the revised information collection requirements contained in the Hazard Communication Standard (HCS) (29 CFR parts 1910, 1915, and 1926) under the Paperwork Reduction Act of 1995 (PRA-95). The OMB control number is 1218-0072.

DATES: The collections of information contained in the final rule published March 26, 2012 (77 FR 17573) are effective October 15, 2012.

FOR FURTHER INFORMATION CONTACT: Theda Kenney or Todd Owen, Directorate of Standards and Guidance, OSHA, U.S. Department of Labor, Room N-3609, 200 Constitution Avenue NW., Washington, DC 20210; telephone (202) 693-2222.

SUPPLEMENTARY INFORMATION: On March 26, 2012, OSHA published a final rule that aligned the existing HCS with the United Nations Globally Harmonized System of Classification and Labeling of Chemicals that benefits workers by reducing confusion about chemical hazards in the workplace, facilitating safety training and improving the understanding of hazards, especially for low literacy workers. The final rule revised existing collection of information (paperwork) requirements that were approved by the Office of Management and Budget (OMB) under PRA-95, 44 U.S.C. 3501 et seq., and OMB's regulations at 5 CFR part 1320.

Hazard communication is currently addressed by many different international, national, and State authorities. These existing requirements are not always consistent and often contain different definitions of hazards and varying provisions for what information is required on labels and safety data sheets (SDSs). The final standard harmonizes the U.S. system with international norms and as a result would enhance worker safety and facilitate international trade. The final rule's modifications to the Hazard Communication Standard's collection of information requirements include: (1) Revised criteria for classification of chemical hazards; (2) revised labeling provisions that include requirements for use of standardized signal words, pictograms, hazard statements, and precautionary statements; (3) a specified format for SDSs; and (4) related revisions to definitions of terms used in the Standard and to requirements for employee training on labels and SDSs.

As required by PRA-95, the Federal Register notice for the Hazard Communication final rule stated that the Department of Labor would publish a notice in the Federal Register announcing the results of OMB's reviews. On March 26, 2012, OSHA submitted a revised Hazard Communication ICR for the final rule to OMB for approval in accordance with the Paperwork Reduction Act of 1995 (44 U.S.C. 3501-3520). On June 11, 2012, OMB approved the revised collections of information contained in the final rule. This approval expires on June 30, 2015.

In accordance with the Paperwork Reduction Act of 1995 (44 U.S.C. 3501-3520), OMB approved the collections of information contained in the HCS, and assigned these collections of information OMB control number 1218-0072. This approval expires on June 30, 2015. In accordance with 5 CFR 1320.5(b), an Agency may not conduct or sponsor, and a person need not respond to, a collection of information unless the collection displays a valid OMB control number. Also, notwithstanding any other provision of law, no employer shall be subject to penalty for failing to comply with a collection of information if the collection of information does not display a currently valid OMB control number.

Authority and Signature

David Michaels, Ph.D., MPH, Assistant Secretary of Labor for Occupational Safety and Health, directed the preparation of this notice. The authority for this notice is the Paperwork Reduction Act of 1995 (44 U.S.C. 3506 et seq.) and Secretary of Labor's Order No. 1-2012 (77 FR 3912).

Signed at Washington, DC on October 2, 2012.
David Michaels,
Assistant Secretary of Labor for Occupational Safety and Health.

[FR Doc. 2012-24595 Filed 10-12-12; 8:45 am]

BILLING CODE 4510-26-P